DEPARTMENT OF TRANSPORTATION

Pipeline and Hazardous Materials Safety Administration

[Docket No. PHMSA-2024-0041 (Notice No. 2024-09)]

Hazardous Materials: Information Collection Activities

AGENCY: Pipeline and Hazardous Materials Safety Administration (PHMSA), DOT.

ACTION: Notice and request for comments.

SUMMARY: In accordance with the Paperwork Reduction Act of 1995, this notice announces that PHMSA is publishing a 60-day notice and providing an opportunity for public comment on its development of general investigative questions that may be used by PHMSA's Office of Hazardous Materials Safety (OHMS) field operations personnel when investigating potential general safety issues. These questions are intended to facilitate fact-gathering efforts during general investigations related to PHMSA's safety oversight responsibilities. The use of these questions would not impose any new reporting or recordkeeping requirements on regulated entities. Rather, the goal is to develop a pool of commonly used questions that can be tailored as appropriate based on the specific circumstances of a given investigation.

DATES: Interested persons are invited to submit comments on or before August 12, 2024.

ADDRESSES: You may submit comments identified by the Docket Number PHMSA-2024-0041 (Notice No. 2024-09) by any of the following methods:

• Federal eRulemaking Portal: http://www.regulations.gov. Follow the instructions for submitting comments.

• Fax: 1-202-493-2251.

• Mail: Docket Management System; U.S. Department of Transportation, West Building, Ground Floor, Room W12-140, Routing Symbol M-30, 1200 New Jersey Avenue SE, Washington, DC 20590.

• Hand Delivery: To the Docket Management System; Room W12-140 on the ground floor of the West Building, 1200 New Jersey Avenue SE, Washington, DC 20590, between 9 a.m. and 5 p.m., Monday through Friday, except Federal holidays.

Instructions: All submissions must include the agency name and Docket Number (PHMSA-2024-0041) for this notice at the beginning of the comment. To avoid duplication, please use only one of these four methods. All comments received will be posted without change to the Federal Docket Management System (FDMS) and will include any personal information you provide.

Requests for a copy of an information collection should be directed to Steven Andrews or Nina Vore, Standards and Rulemaking Division, (202) 366-8553, ohmspra@dot.gov, Pipeline and Hazardous Materials Safety Administration, U.S. Department of Transportation, 1200 New Jersey Avenue SE, Washington, DC 20590-0001.

Docket: For access to the dockets to read background documents or comments received, go to http://www.regulations.gov or DOT's Docket Operations Office (see ADDRESSES).

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Please mark each page of your submission containing CBI as “PROPIN.” PHMSA will treat such marked submissions as confidential under the FOIA, and they will not be placed in the public docket of this notice. Submissions containing CBI should be sent to Steven Andrews or Nina Vore, Standards and Rulemaking Division and addressed to the Pipeline and Hazardous Materials Safety Administration, U.S. Department of Transportation, 1200 New Jersey Avenue SE, Washington, DC 20590-0001 or ohmspra@dot.gov. Any commentary that PHMSA receives which is not specifically designated as CBI will be placed in the public docket for this notice.

FOR FURTHER INFORMATION CONTACT: Steven Andrews or Nina Vore, Standards and Rulemaking Division, (202) 366-8553, ohmspra@dot.gov, Pipeline and Hazardous Materials Safety Administration, U.S. Department of Transportation, 1200 New Jersey Avenue SE, Washington, DC 20590-0001.

SUPPLEMENTARY INFORMATION:

I. Background

The Paperwork Reduction Act (PRA) requires federal agencies to minimize paperwork burden on regulated entities and receive approval from the Office of Management and Budget (OMB) for any information collection requirements. The development of these general investigation questions does not directly impose any new information collection requirements on the regulated community. PHMSA is seeking comments on the information collection burden of proposed general questions that agency investigators may use during general safety investigations. These questions would be designed to gather information about potential safety issues or violations without imposing significant new information collection burdens on the public.

The use of such general investigative questions would allow the agency to carry out its statutory responsibilities to protect public safety while minimizing the paperwork burden on regulated entities. These questions would not require entities to provide specific reports or maintain additional records but would simply facilitate the gathering of relevant facts during investigations. The agency intends to develop a pool of commonly used questions that could be tailored as needed based on the specific circumstances of each investigation. Examples may include questions about operating procedures, training practices, incident reporting, hazard analysis, and other safety-related topics. No new data collection instruments or generalized surveys are proposed at this time.

This notice outlines PHMSA's intent to develop general, commonly used investigative questions focused on safety that can be tailored as needed. It clarifies that no new reporting requirements or recordkeeping burdens are being imposed through this process. The notice demonstrates how this effort is meant to facilitate the agency's enforcement responsibilities while minimizing paperwork impacts, which can support compliance with the PRA.

Section 1320.8(d), title 5, Code of Federal Regulations (CFR) requires PHMSA to provide interested members of the public and affected agencies an opportunity to comment on information collection and recordkeeping requests. This notice identifies an information collection request PHMSA will be submitting to OMB.

II. Questions

Listed below are the general investigation questions that PHMSA plans to submit to OMB for approval:

1. Introduction Questions

a. What are your typical operations? Can you provide a general overview?

b. To the best of your knowledge, was a hazardous material involved in your operations?

c. If yes, please provide the proper shipping name.

2. General Hazardous Materials (Hazmat) Information

a. Can you describe the hazardous materials in transportation you normally see?

i. How often do you see them?

ii. Are you shipping them?

iii. Are you storing them?

b. Are there any specific requirements for the condition of the hazardous material that must be followed before the identified material is transported?

c. Have these conditions been verified? If so, what was the method used?

d. Are there modal-specific (rail/air/vessel/highway) requirements for this hazardous material that you follow? If so, what are they?

e. Do the locations accepting your hazardous material have any concerns/special accommodations when receiving your hazardous material?

f. Do shipping agents (e.g., insurance companies, shippers) have specific requirements when accepting your hazardous material?

g. Which hazard class(es) of hazardous materials in transportation do you routinely see?

3. Hazardous Material Training

a. Which employees/departments are trained to be able to handle this hazardous material? Who conducts this training?

b. When was the last time training was provided?

c. How do you determine who needs training?

4. Safety

a. What have you or your industry done to mitigate risk around this hazardous material?

b. What solutions have been found to be helpful during hazardous materials incidents?

c. How would you handle a hazardous material found to be damaged or not properly packaged?

d. Are there any special requirements in place or instructions when hazardous materials are present?

5. Emergencies/Incidents

a. Do you have the means to contain the hazardous material if there is an accident or an incident?

b. What remediation companies are potentially contracted at this location or by this company?

c. Are you familiar with security plan requirements?

6. Industry Process/SOPs

a. Can you identify other companies involved in the transportation of this hazardous material? Can you share their contact information?

b. What are the locations of your hazardous materials operations?

c. Can you share the Standard Operation Procedures (SOP) for the handling of hazardous materials at your company?

d. Are you familiar with registration requirements?

e. Who signs and prepares shipping papers?

f. Do you transport any hazardous materials in compliance with an approval or special permit?

g. Do you have any type of validation process for hazardous material shipping?

7. Carriers/Shippers/Testers/Manufacturers

a. Do you manufacture any hazardous material packaging?

b. Are any other entities involved with the preparation, handling, or transportation of hazardous materials?

8. Packaging

a. Where do you purchase hazardous materials packaging?

b. Is the product loaded at any specific temperature/pressure?

c. What types of packaging do you routinely see/use for hazardous materials transportation? Including bulk, non-bulk, and/or cylinders.

d. At what interval are you having the package tested? Who performs this function? Are there records?

e. How are you closing the packages? Which tools or other equipment are used?

III. Data

The estimated reporting burdens associated with this information collection are as follows:

OMB Control Number: None.

Form Number: None.

Type of Review: Regular submission.

Affected Public: Business or other for-profit organizations.

Estimated Number of Respondents: 1,000.

Estimated Number or Responses: 1,000.

Estimated Time per Response: 30 minutes. Information will be collected on a voluntary basis to address potential safety issues identified by PHMSA investigators.

Estimated Total Annual Burden Hours: 500.

Estimated Burden Cost: $0.

IV. Request for Comments

Comments are invited on: (1) whether the proposed collection of information is necessary for the proper performance of the functions of the agency, including whether the information shall have practical utility; (2) the accuracy of the agency's estimate of the burden (including hours and cost) of the proposed collection of information; (3) ways to enhance the quality, utility, and clarity of the information to be collected; and (4) ways to minimize the burden of the collection of information on respondents, including through the use of automated collection techniques or other forms of information technology.

Comments submitted in response to this notice will be summarized and/or included in the request for OMB approval of this information collection; they also will become a matter of public record.

Issued in Washington, DC, on June 7, 2024, under authority delegated in 49 CFR 1.97.
Steven W. Andrews Jr.,
Acting Chief, Regulatory Review and Reinvention Branch, Office of Hazardous Materials Safety, Pipeline and Hazardous Materials Safety Administration.

[FR Doc. 2024-12844 Filed 6-11-24; 8:45 am]

BILLING CODE 4910-60-P